ENVIRONMENTAL PROTECTION AGENCY

40 CFR Part 52

[EPA-R01-OAR-2020-0255; FRL-10011-23-Region 1]

Air Plan Approval; Connecticut; Control of Particulate Matter and Visible Emissions

AGENCY: Environmental Protection Agency (EPA).

ACTION: Proposed rule.

SUMMARY: The Environmental Protection Agency (EPA) is proposing to approve a State Implementation Plan (SIP) revision submitted by the State of Connecticut. This revision amends a Connecticut air-quality regulation for controlling particulate matter (PM) and visible emissions. The intended effect of this action is to define the process industries and activities to which this regulation applies, and to make technical corrections to an emission-rate calculation method. This action is being taken under the Clean Air Act.

DATES: Written comments must be received on or before July 29, 2020.

ADDRESSES: Submit your comments, identified by Docket ID No. EPA-R01-OAR-2020-0255 at https://www.regulations.gov, or via email to simcox.alison@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the For Further Information Contact section. For the full EPA public comment policy, information about CBI or multimedia submissions, and general guidance on making effective comments, please visit https://www.epa.gov/dockets/commenting-epa-dockets. Publicly available docket materials are available at https://www.regulations.gov or at the U.S. Environmental Protection Agency, EPA Region 1 Regional Office, Air and Radiation Division, 5 Post Office Square—Suite 100, Boston, MA. EPA requests that if at all possible, you contact the contact listed in the FOR FURTHER INFORMATION CONTACT section to schedule your inspection. The Regional Office's official hours of business are Monday through Friday, 8:30 a.m. to 4:30 p.m., excluding legal holidays and facility closures due to COVID-19.

FOR FURTHER INFORMATION CONTACT: Alison C. Simcox, Air Quality Branch, U.S. Environmental Protection Agency, EPA Region 1, 5 Post Office Square—Suite 100, (Mail code 05-2), Boston, MA 02109-3912, tel. (617) 918-1684, email simcox.alison@epa.gov.

SUPPLEMENTARY INFORMATION: Throughout this document whenever “we,” “us,” or “our” is used, we mean EPA.

Table of Contents

I. Background and Purpose

II. EPA's Evaluation of Connecticut's Regulation

III. Proposed Action

IV. Incorporation by Reference

V. Statutory and Executive Order Reviews

I. Background and Purpose

On October 19, 2018, the Connecticut Department of Energy and Environmental Protection (DEEP) submitted a revision to its State Implementation Plan (SIP) for amendments to Regulations of Connecticut State Agencies (RCSA) section 22a-174-18, Control of particulate matter (PM) and visible emissions. The revision consists of amendments to subsections (c), (f), and (j) to define the process industries and activities to which this regulation applies, to make technical corrections to an emission-rate calculation method, and to make minor, non-substantive modifications in regulatory language.

II. EPA's Evaluation of Connecticut's Regulation

Background

Connecticut first adopted regulations to limit PM and visible emissions from stationary sources, including among other sources, electric generating units (EGUs) and boilers, in the early 1970s. In 1972, EPA approved “Control of particulate emissions,” into the Connecticut SIP. See 37 FR 10842. That regulation has since been recodified as Regulations of Connecticut State Agencies (RCSA) section 22a-174-18.

The most recent amendments to section 22a-174-18 were submitted by CT DEEP on December 1, 2004 and approved into the Connecticut SIP on July 16, 2014. See 79 FR 41427. Those amendments updated the State's visible emissions standards. Details of the State's December 2004 SIP submittal and the rationale for EPA's approval are explained in the August 15, 2013, notice proposed of rulemaking (NPRM). See 78 FR 49701. See Section II of that NPRM for a brief discussion of the relationships among “visible emissions,” “opacity” and “particulate matter.”

2018 Amendments to RCSA Section 22a-174-18

On October 19, 2018, Connecticut submitted to EPA revisions to RCSA section 22a-174-18. These revisions, which became effective in Connecticut on August 3, 2018, consist of revisions to subsections (c), (f), and (j) of RCSA section 22a-174-18 regarding the control of emissions of particulate matter from process industries. The revisions modify language and correct errors in the State's 2004 revision of RCSA section 22a-174-18, which was approved by EPA on July 16, 2014. See 79 FR 41427.

Specifically, the revisions clarify the types of industrial activities regulated by subsection (f) by adding a definition of “process industry” in subsection (f).¹ The revisions also simplify the method used in subsection (f) to calculate the allowable emission rate for process industries, clarify in subsection (c) that process industries subject to subsection (f) are not subject to subsection (c), and make minor, non-substantive changes in language to subsection (j).²

¹ The definition of “process industry” is given as “a business that is primarily concerned with processing of bulk material into other products.” The revisions also define “bulk material” as dry material, such as, but not limited to, ore, coal, cereal, wood, sand, gravel or stone in loose, bulk form.”

² We note that as a matter of state law, Connecticut has also removed certain language from subsections (j)(1) and (2) in order to conform state law to the existing SIP. The removal of such language as a matter of state law has no impact on the Connecticut SIP or this action.

EPA has determined that Connecticut's revisions to RCSA section 22a-174-18 are clarifications and corrections that improve the State's ability to implement the regulation. In addition, the submitted revisions to subsection (j) are non-substantive (e.g., changing “subdivision” to “subsection”). These revisions do not result in any substantive change to the EPA-approved subsection (j). Therefore, EPA proposes to approve into the Connecticut SIP the revisions to subsections (c), (f), and (j) that CT DEEP submitted on October 19, 2018.

III. Proposed Action

EPA is proposing to approve, and incorporate into the Connecticut SIP, the revisions to subsections (c), (f), and (j) of RCSA section 22a-174-18, Control of Particulate Matter and Visible Emissions, effective on August 3, 2018, submitted to EPA on October 19, 2018.

EPA is soliciting public comments on the issues discussed in this notice or on other relevant matters. These comments will be considered before taking final action. Interested parties may participate in the Federal rulemaking procedure by submitting written comments to this proposed rule by following the instructions listed in the ADDRESSES section of this Federal Register.

IV. Incorporation by Reference

In this rule, the EPA is proposing to include in a final EPA rule regulatory text that includes incorporation by reference. In accordance with requirements of 1 CFR 51.5, the EPA is proposing to incorporate by reference into the Connecticut SIP the Connecticut regulation referenced in Section III above. The EPA has made, and will continue to make, these documents generally available through https://www.regulations.gov and at the EPA Region 1 Office (please contact the person identified in the FOR FURTHER INFORMATION CONTACT section of this preamble for more information).

V. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this proposed action merely approves state law as meeting Federal requirements and does not impose additional requirements beyond those imposed by state law. For that reason, this proposed action:

• Is not a significant regulatory action subject to review by the Office of Management and Budget under Executive Orders 12866 (58 FR 51735, October 4, 1993) and 13563 (76 FR 3821, January 21, 2011);

• Is not expected to be an Executive Order 13771 regulatory action because this action is not significant under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: June 18, 2020.
Dennis Deziel,
Regional Administrator, EPA Region 1.

[FR Doc. 2020-13636 Filed 6-26-20; 8:45 am]

BILLING CODE 6560-50-P